DEPARTMENT OF ENERGY

Federal Energy Regulatory Commission

[Docket Nos. CP16-454-000; CP16-455-000; CP20-481-000]

Notice of Intent To Prepare a Supplemental Environmental Impact Statement for the Proposed Rio Grande LNG, LLC and Rio Bravo Pipeline Company, LLC Rio Grande LNG Terminal and Rio Bravo Pipeline Project, Request for Comments on Environmental Issues, and Schedule for Environmental Review

The staff of the Federal Energy Regulatory Commission (FERC or Commission) will prepare a supplemental environmental impact statement (supplemental EIS) that will discuss the environmental impacts of the Rio Grande LNG and Rio Bravo Pipeline Projects involving construction and operation of facilities by Rio Grande LNG, LLC and Rio Bravo Pipeline Company, LLC.¹ On August 6, 2024, the U.S. Court of Appeals for the District of Columbia Circuit issued an opinion vacating and remanding the Commission's November 22, 2019 Order Granting Authorizations Under Sections 3 and 7 of the Natural Gas Act and its April 23, 2023 Order on Remand and Amending Section 7 Certificate that approved the liquefied natural gas (LNG) terminal and pipeline project, including a pipeline amendment in FERC Docket No. CP20-481-000.² On remand, the Commission will consider whether to grant a Natural Gas Act (NGA) section 3(a) authorization for the Rio Grande LNG Terminal and an NGA section 7(c) certificate of public convenience and necessity for the Rio Bravo Pipeline Project.³ The schedule for preparation of the supplemental EIS is discussed in the Schedule for Environmental Review section of this notice.

¹ In accordance with the Council on Environmental Quality's regulations, the unique identification number for documents relating to this environmental review is SEIS-019-20-000-1726224918. 40 CFR 1502.4(e)(10) (2024).

² City of Port Isabel v. FERC, 111 F.4th 1198 (D.C. Cir. 2024).

³ The Commission approved four discrete route adjustments to the Rio Bravo Pipeline Project in FERC Docket No. CP23-519-000 (Order Amending Certificate issued May 23, 2024). The supplemental EIS will analyze the pipeline as amended by these route adjustments.

The Commission must determine whether to authorize the projects under the NGA, taking into consideration the factors discussed in the court's decision. The supplemental EIS will tier off Commission staff's analysis and conclusions as documented in staff's April 26, 2019 final EIS for the projects. The focus of the supplemental EIS will be the issues identified by the court as requiring further analyses (i.e., environmental justice impacts, air quality, and alternatives). The Commission will use this supplemental EIS in its decision-making process to determine whether to authorize the Rio Grande LNG and Rio Bravo Pipeline Projects in light of the court's vacatur and remand.

As part of the National Environmental Policy Act (NEPA) review process, the Commission takes into account concerns the public may have about proposals and the environmental impacts that could result from its action whenever it considers the issuance of an authorization. This notice announces the opening of the scoping process the Commission will use to gather input from the public and interested agencies regarding the issues that will be analyzed in the supplemental EIS. Additional information about the Commission's NEPA process is described below in the NEPA Process and the Supplemental EIS section of this notice.

By this notice, the Commission requests public comments on the scope of issues to address in the supplemental EIS. To ensure that your comments are timely and properly recorded, please submit your comments so that the Commission receives them in Washington, DC on or before 5:00 p.m. Eastern Time on October 15, 2024. Comments may be submitted in written form. Further details on how to submit comments are provided in the Public Participation section of this notice.

If you are a landowner receiving this notice, a pipeline company representative may contact you about the acquisition of an easement to construct, operate, and maintain the proposed facilities. The company would seek to negotiate a mutually acceptable easement agreement. You are not required to enter into an agreement. However, if the Commission approves the project, section 7 of the NGA conveys the right of eminent domain to the company.⁴ Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

⁴ Eminent domain does not apply to the NGA section 3 facilities.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket numbers (CP16-454-000; CP16-455-000; and/or CP20-481-000) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852.

Additionally, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Summary of the Proposed Projects

Rio Grande LNG, LLC's stated purpose for the Rio Grande LNG Terminal is to develop, own, operate, and maintain an LNG export facility in south Texas to export 27 million tons per annum (MTPA) of LNG that provides an additional source of firm, long-term, and competitively priced LNG to the global market. Rio Bravo Pipeline Company, LLC's stated purpose for the Rio Bravo Pipeline Project is to develop, own, operate, and maintain a natural gas pipeline system to access natural gas from the Agua Dulce Hub for delivery at the Rio Grande LNG Terminal.

The Rio Grande LNG Terminal would consist of five natural gas liquefaction trains, each with a nominal capacity of 5.4 MTPA; four LNG storage tanks; two LNG carrier loading berths; one 1,500-foot-diameter turning basin; LNG truck loading and unloading facilities with four loading bays; two natural gas liquids truck loading bays; and other administrative, maintenance, and support facilities. As amended, the Rio Bravo Pipeline Project would include: a 2.4-mile-long header system; approximately 136 miles of parallel 48- and 42-inch-diameter mainline pipelines; one compressor station; four metering sites; and other appurtenant facilities. The general location of the project facilities is shown in appendix 1.⁵

⁵ The appendices referenced in this notice will not appear in the Federal Register. Copies of the appendices were sent to all those receiving this notice in the mail and are available at www.ferc.gov using the link called “eLibrary.” For instructions on connecting to eLibrary, refer to the last page of this notice. For assistance, contact FERC at FERCOnlineSupport@ferc.gov or call toll free, (886) 208-3676 or TTY (202) 502-8659.

Based on the environmental analysis in the April 26, 2019 final EIS, construction and installation of facilities for the projects would require temporary disturbance of about 3,633.2 acres of land. Following construction, the LNG terminal site and pipeline facilities would encompass about 2,149.2 acres. The remaining 1,484.0 acres would return to pre-construction conditions and uses. Incorporation of the Rio Bravo Pipeline Amendment (Docket No. CP20-481-000) resulted in a decrease of 48.2 acres of land, while the Rio Bravo Pipeline Route Amendment (Docket No. CP23-519-000) added approximately 123.3 acres to the overall footprint of the Rio Bravo Pipeline Project.

The NEPA Process and the Supplemental EIS

In order to address the court's August 6, 2024 remand, Commission staff will supplement the analysis from the 2019 final EIS. As noted above, the focus of the supplemental EIS will be the issues identified by the court as requiring further analysis. Specifically, the supplemental EIS will include: (1) an updated analysis of the environmental justice impacts associated with the construction and operation of the Rio Grande LNG Terminal and the Rio Bravo Pipeline Project; (2) a revised analysis of air quality impacts resulting from construction and operational emissions; and (3) an updated alternatives analysis, including carbon capture and sequestration.

Commission staff will also make recommendations on how to lessen or avoid the impacts analyzed in the supplemental EIS. Your comments will help Commission staff focus its analysis on the issues that may have a significant effect on the human environment.

The supplemental EIS will present Commission staff's independent analysis of the issues. Staff will prepare a draft supplemental EIS which will be issued for public comment. Commission staff will consider all timely comments received during the comment period on the draft supplemental EIS and revise the document, as necessary, before issuing a final supplemental EIS. Any draft and final supplemental EIS will be available in electronic format in the public record through eLibrary ⁶ and the Commission's natural gas environmental documents web page (https://www.ferc.gov/industries-data/natural-gas/environment/environmental-documents). If eSubscribed, you will receive instant email notification when the environmental document is issued.

⁶ For instructions on connecting to eLibrary, refer to the last page of this notice.

Alternatives Under Consideration

This supplemental EIS will evaluate reasonable alternatives that are technically and economically feasible and meet the purpose and need for the proposed action.⁷ Alternatives currently under consideration include:

⁷ 40 CFR 1508.1(z)

• the no-action alternative, meaning the project is not implemented; and

• carbon capture and sequestration.

With this notice, the Commission requests specific comments regarding any additional potential alternatives to the proposed action. Please focus your comments on reasonable alternatives (including alternative facility sites and pipeline routes not previously analyzed) that meet the project objectives, are technically and economically feasible, and avoid or lessen environmental impact.

Schedule for Environmental Review

This notice identifies the Commission staff's planned schedule for completion of the final supplemental EIS for the projects, which is based on an issuance of the draft supplemental EIS in March 2025, opening a 45-day comment period.

Issuance of Notice of Availability of the final supplemental EIS—July 31, 2025

90-day Federal Authorization Decision Deadline ⁸—October 29, 2025

⁸ The Commission's deadline applies to the decisions of other federal agencies, and state agencies acting under federally delegated authority, that are responsible for federal authorizations, permits, and other approvals necessary for proposed projects under the NGA. Per 18 CFR 157.22(a), the Commission's deadline for other agency's decisions applies unless a schedule is otherwise established by federal law.

In accordance with the Council on Environmental Quality's regulations, for EISs, agencies are to make schedules for completing the NEPA process publicly available.⁹ This notice identifies the Commission's anticipated schedule for issuance of the final order for the projects, which serves as the Commission's record of decision. We currently anticipate issuing a final order for the projects no later than:

⁹ 40 CFR 1501.10(h) (2024).

Issuance of Final Order—November 20, 2025

If a schedule change becomes necessary, an additional notice will be provided so that the relevant agencies are kept informed of the project's progress.

Environmental Mailing List

This notice is being sent to the Commission's current environmental mailing list for the projects which includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project and includes a mailing address with their comments. Commission staff will update the environmental mailing list as the analysis proceeds to ensure that Commission notices related to this environmental review are sent to all individuals, organizations, and government entities interested in and/or potentially affected by the projects.

If you need to make changes to your name/address, or if you would like to remove your name from the mailing list, please complete one of the following steps:

(1) Send an email to GasProjectAddressChange@ferc.gov stating your request. You must include the docket number (i.e., CP16-454-000; CP16-455-000; and/or CP20-481-000) in your request. If you are requesting a change to your address, please be sure to include your name and the correct address. If you are requesting to delete your address from the mailing list, please include your name and address as it appeared on this notice. This email address is unable to accept comments.

OR

(2) Return the attached “Mailing List Update Form” (appendix 2).

Additional Information

Additional information about the projects is available from the Commission's Office of External Affairs, at (866) 208-FERC, or on the FERC website at www.ferc.gov using the eLibrary link. Click on the eLibrary link, click on “General Search” and enter the docket number in the “Docket Number” field, excluding the last three digits (i.e., CP16-454, CP16-455, or CP20-481). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: September 13, 2024.
Debbie-Anne A. Reese,
Acting Secretary.

[FR Doc. 2024-21475 Filed 9-19-24; 8:45 am]

BILLING CODE 6717-01-P